DEPARTMENT OF THE INTERIOR

Bureau of Ocean Energy Management

[Docket No. BOEM-2024-0018]

Notice of Availability of a Final Environmental Impact Statement for Atlantic Shores Offshore Wind, LLC's Proposed Atlantic Shores Offshore Wind South Project Offshore New Jersey

AGENCY: Bureau of Ocean Energy Management, Interior.

ACTION: Notice of availability; final environmental impact statement.

SUMMARY: The Bureau of Ocean Energy Management (BOEM) announces the availability of the Final Environmental Impact Statement (FEIS) on the Atlantic Shores Offshore Wind, LLC (Atlantic Shores) construction and operations plan (COP) for its proposed Atlantic Shores Offshore Wind South Project (Project) offshore New Jersey. The FEIS analyzes the potential environmental impacts of the Project as described in the COP (the Proposed Action) and the alternatives to the Proposed Action, including the No Action Alternative. The FEIS will inform BOEM's decision whether to approve, approve with modifications, or disapprove the COP.

ADDRESSES: The FEIS and detailed information about the Project, including the COP, can be found on BOEM's website at: https://www.boem.gov/renewable-energy/state-activities/atlantic-shores-south.

FOR FURTHER INFORMATION CONTACT: Kimberly Sullivan, BOEM Office of Renewable Energy Programs, 45600 Woodland Road, Sterling, Virginia 20166, (702) 338-4766 or kimberly.sullivan@boem.gov.

SUPPLEMENTARY INFORMATION:

Proposed Action: Atlantic Shores seeks approval to construct, operate, and maintain two wind energy facilities (Project 1 and Project 2) and their associated export cables on the Outer Continental Shelf (OCS) offshore New Jersey. The Project would be developed within the range of design parameters outlined in the Atlantic Shores COP, subject to the applicable mitigation measures.

The Project as proposed in the COP would include up to 200 total wind turbine generators (WTGs) (between 105 and 136 WTGs for Project 1 and between 64 and 95 WTGs for Project 2), up to 10 offshore substations (up to 5 in each Project), 1 permanent meteorological (met) tower, up to 4 temporary meteorological and oceanographic (metocean) buoys (up to 1 met tower and 3 metocean buoys in Project 1 and 1 metocean buoy in Project 2), interarray and interlink cables, up to 2 onshore substations, 2 points of interconnection, 1 operations and maintenance facility, and up to 8 transmission cables making landfall at 2 New Jersey locations.

The Atlantic Shores South Project is proposed to be located 8.7 miles (14 kilometers) ¹ from the New Jersey shoreline at its closest point within the area covered by Renewable Energy Lease Number OCS-A 0499 (Lease Area).

¹ Equates to 7.6 nautical miles. 1 nautical mile = 1.1508 statute miles.

Alternatives: BOEM considered 21 alternatives (including the No Action Alternative) when preparing the Draft Environmental Impact Statement and carried forward six alternatives for further analysis in the FEIS. These alternatives include five action alternatives and the No Action Alternative. Fifteen alternatives were not analyzed in detail because they did not meet the purpose and need for the Proposed Action or did not meet screening criteria, which are presented in the FEIS Chapter 2. The screening criteria included consistency with law and regulations, technical and economic feasibility, environmental impacts, and geographic considerations.

Availability of the FEIS: The FEIS, the Atlantic Shores COP, and associated information are available on BOEM's website at: https://www.boem.gov/renewable-energy/state-activities/atlantic-shores-south. BOEM has distributed digital copies of the FEIS to all parties listed in FEIS Appendix M. If you require a flash drive or paper copy, BOEM will provide one upon request, as long as supplies are available. You may request a flash drive or paper copy of the FEIS by contacting Kimberly Sullivan at (702) 338-4766 or kimberly.sullivan@boem.gov.

Cooperating Agencies: The following Federal agencies and State governmental entities participated as cooperating agencies under the National Environmental Policy Act in the preparation of the FEIS: Bureau of Safety and Environmental Enforcement; National Marine Fisheries Service; U.S. Army Corps of Engineers; U.S. Coast Guard; National Park Service; U.S. Environmental Protection Agency; U.S. Fish and Wildlife Service; New Jersey Board of Public Utilities; New Jersey Department of Environmental Protection; and New York State Department of State.

Authority: 42 U.S.C. 4231 et seq. (NEPA, as amended) and 40 CFR 1506.6.

Karen Baker,
Chief, Office of Renewable Energy Programs, Bureau of Ocean Energy Management.

[FR Doc. 2024-11947 Filed 5-30-24; 8:45 am]

BILLING CODE 4340-98-P